DEPARTMENT OF AGRICULTURE

Submission for OMB Review; Comment Request

August 2, 2021.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 7, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Coronavirus Food Assistance Program 2 (CFAP2).

OMB Control Number: 0560-0297.

Summary of Collection: This information collection request is required to support the Coronavirus Food Assistance Program 2 (CFAP 2) information collection activities to provide payments to eligible producers who, with respect to their agricultural commodities, have been impacted by the effects of the COVID-19 pandemic. The information collection is necessary to evaluate the application and other required paperwork for determining the producer's eligibility and assist in the producer's payment calculations. Producers must submit a completed CFAP 2 application and additional documentation for eligibility, such as certifications of compliance with adjusted gross income provisions and conservation compliance activities; those additional documents and forms must be submitted no later than 60 days from the date a producer signs the application. Contract producers are now eligible to receive direct payments that is currently included in the request.

Need and Use of the Information: In order to determine whether a producer is eligible for CFAP and to calculate a payment, a producer is required to submit AD-3117, CFAP application; AD-3117A-Continuation Form for CFAP-Milk Production Modification; AD-3117B- Continuation Sheet for Coronavirus Food Assistance Program 2 (CFAP 2) Application for Contract Producers, CCC-902, Farm Operating Plan for Payment Eligibility, Parts A & B; CCC-901, Member Information for Legal Entities, if applicable; CCC-941, Average Adjusted Gross Income (AGI) Certification and Consent to Disclosure of Tax Information; and CCC-942, Certification of Income from Farming, Ranching, and Forestry Operations, Optional, and AD-1026- Highly Erodible Land Conservation (HELC) and Wetland Conservation Certification.

The information submitted by respondents will be used by FSA and AMS to determine eligibility and distribute payments to eligible producers under CFAP. Failure to solicit applications will result in failure to provide payments to eligible producers.

Description of Respondents: Farmers and Producers.

Number of Respondents: 1,248,901.

Frequency of Responses: Reporting; Other (one-time).

Total Burden Hours: 926,051.

Ruth Brown,
Departmental Information Collection Clearance Officer.

[FR Doc. 2021-16733 Filed 8-4-21; 8:45 am]

BILLING CODE 3410-05-P